DEPARTMENT OF THE INTERIOR

Bureau of Land Management

[NV-060-3809]

Notice of Availability; Environmental Impact Statement; South Pipeline Project; Proposed Expansion of Existing Gold Mining/Processing Operations; Lander County, NV

AGENCY: Bureau of Land Management (BLM).

COOPERATING AGENCIES: Nevada Division of Wildlife, U.S. Army Corps of Engineers

ACTION: Notice of availability of the Final Environmental Impact Statement (FEIS) for the South Pipeline Project, Lander County, Nevada.

SUMMARY: Pursuant to section 102(2)(c) of the National Environmental Policy Act of 1969 and 40 Code of Federal Regulations 1500-1508 Council on Environmental Quality Regulations, notice is hereby given of the availability of the FEIS, prepared by the Battle Mountain BLM, which analyzes the environmental effects of the South Pipeline Project (Proposed Action), the No Action Alternative, and the Pipeline Backfill Alternative.

DATES: Written comments must be postmarked or otherwise delivered by 4:30 p.m. on April 3, 2000. Copies of the FEIS may be obtained at the Battle Mountain BLM Field Office.

ADDRESS: Written comments should be addressed to the Bureau of Land Management, Battle Mountain Field Office, 50 Bastian Road, Battle Mountain, Nevada 89820. Comments, including names and street addresses of respondents, will be available for public review at the above address during regular business hours (7:30 a.m. to 4:30 p.m.), Monday through Friday, except holidays, and may be published in the EIS. Individual respondents may request confidentiality. If you wish to withold your name or street address from public review or from disclosure under Freedom of Information Act, you must state this prominently at the beginning of your written comment. Such requests will be honored to the extent allowed by law. All submissions from organizations or businesses, and from individuals identifying themselves as representatives or officials of organizations or businesses, will be made available for public inspection in their entirety.

FOR FURTHER INFORMATION CONTACT: Gary Foulkes (775) 635-4060.

SUPPLEMENTARY INFORMATION: Cortez Gold Mines, Inc. proposes to extend gold mining operations at the Pipeline Mine within the Gold Acres Mining District in Lander County, approximately 30 miles southeast of Battle Mountain, Nevada. The South Pipeline Project (Proposed Action) would include an expansion of the existing open pit and waste rock disposal sites, and the development of heap leach and ancillary facilities. The Proposed Action would require surface disturbance of 4,450 acres, all of which is public land administered by the BLM. Operations are expected to occur seven-days-a-week, 24-hours-a-day, for an additional 10 years (total life of 18 years).

Dated: February 22, 2000.
M. Lee Douthit,
Associate Field Manager, Battle Mountain Field Office.

[FR Doc. 00-4565 Filed 3-2-00; 8:45 am]

BILLING CODE 4310-HC-U